SMALL BUSINESS ADMINISTRATION

[Disaster Declaration #12244 and #12245]

Kentucky Disaster Number KY-00036.

AGENCY: U.S. Small Business Administration.

ACTION: Amendment 4.

SUMMARY: This is an amendment of the Presidential declaration of a major disaster for Public Assistance Only for the State of Kentucky (FEMA—1925—DR), dated 07/23/2010.

Incident: Severe storms, flooding, and mudslides.

Incident Period: 07/17/2010 through 07/30/2010.

DATES: Effective Date: 08/12/2010.

Physical Loan Application Deadline Date: 09/21/2010.

Economic Injury (EIDL) Loan Application Deadline Date: 04/25/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Kentucky, dated 07/23/2010, is hereby amended to include the following areas as adversely affected by the disaster.

Primary Counties: Madison.

All other information in the original declaration remains unchanged.

(Catalog of Federal Domestic Assistance Numbers 59002 and 59008)

James E. Rivera,
Associate Administrator for Disaster Assistance.

[FR Doc. 2010-20511 Filed 8-17-10; 8:45 am]

BILLING CODE 8025-01-P